DEPARTMENT OF THE INTERIOR

Geological Survey

[USGS-GX11EE000101000]

Agency Information Collection Activities: Comment Request for National Spatial Data Infrastructure, Cooperative Agreements Program (NSDI CAP)

AGENCY: United States Geological Survey (USGS), Interior.

ACTION: Notice of an extension of a currently approved information collection (1028-0084).

SUMMARY: To comply with the Paperwork Reduction Act of 1995 (PRA), we (the U.S. Geological Survey) are notifying the public that we will submit to OMB an extension of a currently approved information collection (IC) for the National Spatial Data Infrastructure, Cooperative Agreements Program (NSDI CAP). This notice provides the public and other Federal agencies an opportunity to comment on the paperwork burden of this information collection (IC). The existing IC is scheduled to expire on January 31, 2012. To submit a proposal for the NSDI CAP three standard OMB forms and project narrative must be completed and submitted via Grants.gov.

DATES: To ensure that your comments on this IC are considered, please submit them on or before September 23, 2011.

ADDRESSES: Please also submit a copy of your written comments to USGS Information Collection Clearance Officer, U.S. Geological Survey, 12201 Sunrise Valley Drive, Mail Stop 807, Reston, VA 20192 (mail); 703-648-7197 (phone); 703-648-6853 (fax); or cbartlett@usgs.gov (e-mail). Please reference Information Collection 1028-0084 NSDI CAP in the subject line.

FOR FURTHER INFORMATION CONTACT: To request additional information about this IC, please contact USGS, Brigitta Urban-Mathieux U.S. Geological Survey, 12201 Sunrise Valley Drive, Mail Stop 590, Reston, Virginia 20192 (mail); by telephone (703) 648-5175; or burbanma@usgs.gov (e-mail).

SUPPLEMENTARY INFORMATION:

I. Abstract

Respondents are submitting proposals to acquire funding for projects to help build the infrastructure necessary for the geospatial data community to effectively discover, access, share, manage, and use digital geographic data. The NSDI consists of the technologies, policies, organizations, and people necessary to promote cost-effective production, and the ready availability and greater utilization of geospatial data among a variety of sectors, disciplines, and communities. Specific NSDI areas of emphasis include: metadata documentation, clearinghouse establishment, framework development, standards implementation, and building organizational collaboration and cooperation among organizations to leverage of geospatial resources.

We will protect information considered proprietary under the Freedom of Information Act (5 U.S.C. 552) and its implementing regulations (43 CFR Part 2), and under regulations at 30 CFR 250.197, “Data and information to be made available to the public or for limited inspection.” Responses are voluntary. No questions of a “sensitive” nature are asked. We intend to release the project abstracts and primary investigators for awarded/funded projects only.

II. Data

OMB Control Number: 1028-0084.

Title: National Spatial Data Infrastructure Cooperative Agreements Program (NSDI CAP).

Type of Request: Notice of an extension of a currently approved information collection.

Affected Public: Private Sector; State, Local, and Tribal governments; Academia, and Non-profit organizations.

Respondent's Obligation: Voluntary (necessary to receive benefits).

Frequency of Collection: On occasion.

Estimated Annual Number of Respondents: 60.

Estimated Total Annual Responses: 60.

Estimated Time per Response: 25 hours.

Estimated Total Annual Burden Hours: 1,500 hours.

III. Request for Comments

We invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that any comments submitted in response to this notice are a matter of public record. Before including your address, phone number, e-mail address or other personal identifying information in your comment, you should be aware that your entire comment including your personal identifying information, may be made publically available at anytime. While you can ask OMB in your comment to withhold your personal identifying information from public review, we cannot guarantee that will be done.

Dated: July 19, 2011.
Ivan DeLoatch,
Executive Director, Federal Geographic Data Committee, Core Science Systems.

[FR Doc. 2011-18609 Filed 7-22-11; 8:45 am]

BILLING CODE 4311-AM-P